SECURITIES AND EXCHANGE COMMISSION

Submission for OMB Review; Comment Request

Upon Written Request, Copies Available From: Securities and Exchange Commission, Office of Filings and Information Services, Washington, DC 20549.

Extension: Rule 202(a)(11)-1; SEC File No. 270-471; OMB Control No. 3235-0532.

Notice is hereby given that pursuant to the Paperwork Reduction Act of 1995 (44 U.S.C. 3501 et seq.), the Securities and Exchange Commission (“Commission”) has submitted to the Office of Management and Budget (“OMB”) a request for extension of the previously approved collection of information discussed below.

The title for the collection of information is “Certain Broker-Dealers Deemed Not To Be Investment Advisers.” Rule 202(a)(11)-1 (17 CFR 275.202(a)(11)-1) under the Investment Advisers Act of 1940 (15 U.S.C. 80b-1 et seq.) (“Advisers Act”) addresses the application of the Advisers Act to broker-dealers offering accounts charging an asset-based fee. The rule is intended to clarify when brokers offering these programs are subject to the provisions of the Advisers Act. The rule requires that all advertisements for brokerage accounts charging an asset-based fee and all agreements and contracts governing the operation of those accounts contain a certain prominent statement that the accounts are brokerage accounts and not advisory accounts. This collection of information is necessary so that customers are not confused with respect to the services that they are receiving, i.e., to prevent customers and prospective customers from mistakenly believing that the account is an advisory account subject to the Advisers Act. The collection assists customers in making informed decisions regarding whether to establish accounts.

The respondents to this collection of information are all broker-dealers that are registered with the Commission. The Commission has estimated that the average annual burden for ensuring compliance with the disclosure element of the rule is 5 minutes per broker-dealer taking advantage of the rule. If all of the approximately 6,158 broker-dealers registered with the Commission took advantage of the rule, the total estimated annual burden would be 511 hours (.083 hours × 6,158 brokers).

The rule imposes no additional requirements regarding record retention. The collection of information requirements under the rule are mandatory. Any information received by the Commission related to the rule would be kept confidential, subject to the provisions of the Freedom of Information Act, 5 U.S.C. 552. An agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, DC 20503 or e-mail to: David_Rostker@omb.eop.gov; and (ii) R. Corey Booth, Director/Chief Information Officer, Securities and Exchange Commission, C/O Shirley Martinson, 6432 General Green Way, Alexandria, Virginia 22312, or send an e-mail to: PRA_Mailbox@sec.gov. Comments must be submitted to OMB within 30 days of this notice.

Dated: July 31, 2006.
Nancy M. Morris,
Secretary.

[FR Doc. E6-12698 Filed 8-4-06; 8:45 am]

BILLING CODE 8010-01-P